DEPARTMENT OF VETERANS AFFAIRS

Advisory Committee on Structural Safety of Department of Veterans Affairs Facilities, Notice of Meeting, Amended

The Department of Veterans Affairs (VA) gives notice under Federal Advisory Committee Act, 5 U.S.C. ch. 10, that a meeting of the Advisory Committee on Structural Safety of Department of Veterans Affairs Facilities will be held on May 16-18, 2023. The meeting sessions will take place at VA Caribbean Healthcare System, 10 Calle Casia (Administration Building 40, Room 2M230), San Juan, Puerto Rico 00921. The meeting sessions will begin and end as follows:

Dates | Times | Open session
May 16, 2023 | 9:00 a.m. to 5:00 p.m. Atlantic Standard Time (AST) | No.
May 17, 2023 | 9:00 a.m. to 5:00 p.m. AST | No.
May 18, 2023 | 9:00 a.m. to 5:00 p.m. AST | Yes.

The meeting sessions are closed to the public when the Committee is conducting tours of VA other Veteran service facilities and administrative workgroup sessions. Tours of VA facilities are closed, to protect Veterans' privacy and personal information in accordance with 5 U.S.C. 552b (c)(6).

The purpose of the Committee is to advise the Secretary of Veterans Affairs on matters of structural safety in the construction and remodeling of VA facilities and to recommend standards for use by VA in the construction and alteration of its facilities.

On May 16 and May 17, 2023, the Committee will conduct tours of VA and other Veteran service facilities and administrative workgroup sessions. Tours of VA and Veteran service facilities are closed, to protect Veterans' privacy and personal information in accordance with 5 U.S.C. 552b(c)(6).

On May 18, the meeting will be a hybrid, held in-person and the Committee will receive appropriate briefings and presentations on current seismic, natural hazards, and fire safety issues that are particularly relevant to facilities owned and leased by the Department. The Committee will also discuss appropriate structural and fire safety recommendations for inclusion in VA's construction standards.

No time will be allocated for receiving oral presentations from the public. However, the Committee will accept written comments. Comments should be emailed to Donald Myers, Director, Facilities Standards Service, Office of Construction & Facilities Management (003C2B), Department of Veterans Affairs, at donald.myers@va.gov. In the communication, writers must identify themselves and state the organization, association, or person(s) they represent. For any members of the public that wish to attend virtually, they may use the Microsoft Teams link or call in with the phone number and Phone Conference ID below: https://teams.microsoft.com/l/meetup-join/19%3ameeting_NDM0NWNjMjQtMDIzNC00YmVlLWJhYzYtZjM1MzNkZjRmNjU4%40thread.v2/0?context=%7b%22Tid%22%3a%22e95f1b23-abaf-45ee-821d-b7ab251ab3bf%22%2c%22Oid%22%3a%22d2eb6490-e84d-4737-b9ce-b5664e018fd6%22%7d, Meeting ID: 283 180 861 958, Passcode: q3gSdL, or to join by phone (audio only): +1 872-701-0185, Phone Conference ID: 913 918 924#.

Those seeking additional information or wishing to attend should contact Mr. Myers at the email address noted above or by phone at 202-632-5388.

Dated: May 4, 2023.
Jelessa M. Burney,
Federal Advisory Committee Management Officer.

[FR Doc. 2023-09832 Filed 5-8-23; 8:45 am]

BILLING CODE P